DEPARTMENT OF STATE

[Public Notice 3396]

Notice of Information Collection Under Emergency Review: Annual Placement Report for the Camp Counselor and Summer Work/Travel Program Categories, J-1 Exchange Visitor Program

AGENCY: Department of State.

ACTION: Notice of information collection under emergency review.

SUMMARY: The Department of State has submitted the following information collection request to the Office of Management and Budget (OMB) for review and approval in accordance with the emergency review procedures of the Paperwork Reduction Act of 1995.

Type of Request: Extension of a Currently Approved Collection.

Originating Office: ECA/EC/ECD—Bureau of Educational and Cultural Affairs—Exchange Visitor Program Designation Staff.

Title of Information Collection: Placement Report, Camp Counselor and Summer Work/Travel Program Categories.

Frequency: Annual.

Form Number: No forms are used.

Respondents: Private Sector Organizations designated by the Department of State to administer J-1 Camp Counselor and/or Summer Work/Travel Exchange Programs.

Estimated Number of Respondents: 47.

Average Hours Per Response: 30 minutes.

Total Estimated Burden: 25 hours.

The proposed information collection is published to obtain comments from the public and affected agencies. Emergency review and approval of this collection has been requested from OMB by July 31, 2000. If granted, the emergency approval is only valid for 180 days. Comments should be directed to the State Department Desk Officer, Office of Information and Regulatory Affairs, Office of Management and Budget (OMB), Washington, DC 20530, (202) 395-5871.

During the first 60 days of this same period a regular review of this information collection is also being undertaken. Comments are encouraged and will be accepted until September 6, 2000. The agency requests written comments and suggestions from the public and affected agencies concerning the proposed collection of information. Your comments are being solicited to permit the Department to:

• Evaluate whether the proposed collection of information is necessary for the proper performance of the functions of the agency, including whether the information will have practical utility.

• Evaluate the accuracy of the Department's estimate of the burden of the proposed collection, including the validity of the methodology and assumptions used.

• Enhance the quality, utility, and clarity of the information to be collected.

• Minimize the reporting burden on those who are to respond, including through the use of automated collection techniques or other forms of technology.

FOR ADDITIONAL INFORMATION: Public comments, or requests for additional information, regarding the collection listed in this notice should be directed to the U.S. Department of State, ECA/EC/ECD—Exchange Visitor Program Designation Staff, SA-44, Room 734, 301 4th Street SW, Washington, DC 20547; Telephone: (202) 401-9810; FAX: (202) 401-9809.

Dated: June 27, 2000.
James D. Whitten,
Executive Director, ECA—Bureau of Educational and Cultural Affairs, Department of State.

[FR Doc. 00-21239 Filed 8-18-00; 8:45 am]

BILLING CODE 4710-05-U